DEPARTMENT OF HEALTH AND HUMAN SERVICES

Administration for Children and Families

Proposed Information Collection Activity; Notification of Obligation Target Status for CCDF American Rescue Plan (ARP) Act Stabilization Funds (0970-0510)

AGENCY: Office of Child Care (OCC), Administration for Children and Families, HHS.

ACTION: Request for public comment.

SUMMARY: The Administration for Children and Families (ACF), Office of Child Care (OCC) plans to submit a generic information collection (GenIC) request under the umbrella generic: Generic Clearance for Financial Reports used for ACF Mandatory Grant Programs (0970-0510). This request includes an information collection for Child Care and Development Fund (CCDF) state and territory grant recipients to report obligation progress of the American Rescue Plan (ARP) Act Stabilization funds.

DATES: Comments due within 14 days of publication. In compliance with the requirements of the Paperwork Reduction Act of 1995, ACF is soliciting public comment on the specific aspects of the information collection described above and below.

ADDRESSES: Copies of the proposed collection of information can be obtained and comments may be submitted by emailing infocollection@acf.hhs.gov. All requests should be identified by the title of the information collection.

SUPPLEMENTARY INFORMATION:

Description: ACF programs require detailed financial information from their grantees that allows ACF to monitor various specialized cost categories within each program, to closely manage program activities, and to have sufficient financial information to enable periodic thorough and detailed audits. The Generic Clearance for Financial Reports used for ACF Mandatory Grant Programs allows ACF programs to efficiently develop and receive approval for financial reports that are tailored to specific funding recipients and the associated needs of the program. For more information about the umbrella generic, see: https://www.reginfo.gov/public/do/PRAViewDocument?ref_nbr=202108-0970-002.

This specific GenIC is to meet the one-time statutory financial reporting requirement established by the ARP Act (Pub. L. 117-2, Sec. 2202). The ARP Act allocated $24 billion for CCDF for lead agencies to award subgrants to child care providers in order to stabilize the child care market. The ARP Act requires lead agencies to notify the Secretary of HHS if they are unable to obligate at least 50 percent of the Stabilization funds that are available for subgrants within 9 months of enactment.

Generic clearance approval is requested to allow ACF's OCC to collect the necessary information from CCDF lead agencies by the statutory deadline of December 11, 2021.

Respondents: State and territory CCDF administrators.

Annual Burden Estimates
Title of information collection | Number of respondents | Total number of responses | Hourly burden per response | Annual hourly burden
Notification of Obligation Target Status for CCDF ARP Act Stabilization Funds | 56 | 1 | 1 | 56

Estimated Total Annual Burden Hours: 56.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 14 days of this publication.

(Authority: Sec. 2022, Pub. L. 117-2, Sec. 2202.)

Mary B. Jones,
ACF/OPRE Certifying Officer.

[FR Doc. 2021-24377 Filed 11-5-21; 8:45 am]

BILLING CODE 4184-81-P